DEPARTMENT OF VETERANS AFFAIRS

Veterans' Family, Caregiver, and Survivor Advisory Committee, Notice of Meeting Amended

The Department of Veterans Affairs (VA) gives notice under the Federal Advisory Committee Act that the Veterans' Family, Caregiver, and Survivor Advisory Committee will meet on March 26-27, 2019. The meeting will be held at the Department of Veterans Affairs, 810 Vermont Avenue NW, Room 230, Washington, DC 20420. Both sessions will begin at 9:00 a.m. (EST) each day. The session on March 26 will adjourn at approximately 5:00 p.m. The session on the March 27 will adjourn at approximately 3:00 p.m. The meetings are open to the public.

The purpose of the Committee is to advise the Secretary of Veterans Affairs on matters related to: Veterans' families, caregivers, and survivors across all generations, relationships, and Veterans status; the use of VA care and benefits services by Veterans' families, caregivers, and survivors, and possible expansion of such care and benefits services; Veterans' family, caregiver, and survivor experiences; VA policies, regulations, and administrative requirements related to the transition of Servicemembers from the Department of Defense (DoD) to enrollment in VA that impact Veterans' families, caregivers, and survivors; and factors that influence access to, quality of, and accountability for services and benefits for Veterans' families, caregivers, and survivors.

On March 26 and 27, the agenda will include information on the pilot research from the Center for Excellence, updates from the Veterans Experience Office (VEO) White House Hotline (regarding comments from Veterans' families, caregivers, and survivors), an update on the Mission Act Implementation and Expansion of the Stipend Program to Pre-9/11/Inclusive Care; update on Tragedy Assistance Program (TAPS) and their collaboration with VA's Research Advisory Committee on Gulf War Veterans' Illnesses; and updates from the Office of Suicide Prevention and Office of Survivors. There will be opening remarks from VA senior leaders including the Chief Veterans Experience Officer and the Committee Chair and a presentation on the Recommendations this Committee submitted in November 2018. Committee members will also discuss the committee work plan and future activities. Public comments will be received at 4:00 p.m. to 5:00 p.m. on March 26, 2019.

Individuals wishing to speak should contact Dr. Betty Moseley Brown at Betty.MoseleyBrown@va.gov and are requested to submit a 1-2 page summary of their comments for inclusion in the official meeting record. In the interest of time, each speaker will be held to a 5-minute time limit.

Because the meeting is being held in a government building, a photo I.D. must be presented at the Guard's Desk as a part of the clearance process. To prevent delays, you should allow an additional 30 minutes before the meeting begins to clear security. If you are interested in attending, please submit your name to Betty Moseley Brown by March 22, 2019 to help expedite the security clearance process. Any member of the public seeking additional information should contact Betty Moseley Brown at (202) 465-6199 or at Betty.MoseleyBrown@va.gov.

Dated: February 27, 2019.
Jelessa M. Burney,
Federal Advisory Committee Management Officer.

[FR Doc. 2019-03771 Filed 3-1-19; 8:45 am]

BILLING CODE P